DEPARTMENT OF THE TREASURY

Office of the Comptroller of the Currency

[Docket No. 00-18]

Privacy Act of 1974, as Amended; System of Records

AGENCY: Office of the Comptroller of the Currency, Treasury.

ACTION: Notice of proposed new Privacy Act Systems of Records.

SUMMARY: In accordance with the Privacy Act of 1974, as amended, the Office of the Comptroller of the Currency (OCC) gives notice of five proposed new Privacy Act systems of records.

DATES: The proposed new systems of records will become effective November 26, 2001 unless comments are received which would result in a contrary determination.

ADDRESSES: You should send your comments to the Office of the Comptroller of the Currency, Public Information Room, Docket No. 00-18, 250 E Street, SW, Washington, DC 20219. You may inspect comments received at the same location. You may send your comments by facsimile transmission to FAX number 202-874-4448 or by electronic mail to REGS.COMMENTS@OCC.TREAS.GOV.

FOR FURTHER INFORMATION CONTACT: Frank Vance, Jr., Disclosure Officer, Communications Division, (202) 874-4700 or Harold J. Hansen, Assistant Director, Administrative and Internal Law Division, (202) 874-4460.

SUPPLEMENTARY INFORMATION: Pursuant to the Privacy Act of 1974, as amended, 5 U.S.C. 552a, the OCC is proposing to establish the following new systems of records:

(1) Treasury/Comptroller .100—Enforcement Action Report System

Records relating to enforcement actions taken by the OCC against individuals that will be maintained in this proposed new system are currently maintained in an existing Privacy Act system of records, Treasury/Comptroller .013-Enforcement Compliance Information System. Records maintained in the Enforcement and Compliance Information System have been exempted by rule from certain provisions of the Privacy Act pursuant to 5 U.S.C. 552a(j)(2) and (k)(2).

Information in the Enforcement Action Report System will be used by the OCC for supervisory and licensing purposes, including the review of the qualifications and fitness of individuals who are or propose to become responsible for the business operation of OCC-regulated entities. The system will contain records of enforcement actions taken by the OCC and other federal financial regulatory agencies against individuals and pending OCC enforcement actions. It will also contain information about individuals who require the Federal Deposit Insurance Corporation's approval to participate in the affairs of an insured depository institution pursuant to 12 U.S.C. 1829, including information about criminal convictions involving dishonesty or breach of trust.

The OCC proposes to exempt records maintained in the Enforcement Action Report System from certain of the Privacy Act's requirements pursuant to 5 U.S.C. 552a(k)(2).

(2) Treasury/Comptroller .120—Bank Fraud Information System

To assist the OCC in its supervisory function, this system will track complaints and inquiries concerning fraudulent or suspicious financial instruments and transactions. The information maintained in this system of records will serve the OCC's mission of ensuring safety and soundness of the banking system by assisting the OCC in its efforts to protect banks and their customers from fraudulent or suspicious banking activities.

The OCC proposes to exempt records maintained in the Bank Fraud Information System from certain of the Privacy Act's requirements pursuant to 5 U.S.C. 552a(j)(2) and (k)(2).

(3) Treasury/Comptroller .220—Section 914 Tracking System

Pursuant to rulemaking authority under 12 U.S.C. 93a and 1831i, certain categories of national banks, District of Columbia banks operating under the OCC's regulatory authority, and federal branches of foreign banks are required by 5 CFR 5.51 to file notices for the OCC's review when they propose to add individuals to their boards of directors or propose to employ senior executive officers. The OCC is establishing the Section 914 Tracking System as a system of records to track the processing of these notices.

The information in this system also will be used in carrying out OCC's other regulatory and licensing responsibilities, including other reviews of the qualifications and fitness of individuals who propose to become responsible for the business operations of OCC-regulated entities.

The OCC proposes to exempt records maintained in the Section 914 Tracking System from certain of the Privacy Act's requirements pursuant to 5 U.S.C. 552a(k)(2).

(4) Treasury/Comptroller .340—Access Control System

The records maintained in this system will assist the OCC in maintaining the security of its premises and permit it to identify those individuals who are on OCC premises at particular times.

Access Control System records are currently part of an existing Privacy Act system of records, Treasury/Comptroller .300-Administrative Personnel System. The notice for the Administrative Personnel System was last published in the Federal Register at 63 FR 69761, dated December 17, 1998.

(5) Treasury/Comptroller .700—Correspondence Tracking System

These records assist offices within the OCC to receive and respond to correspondence. Correspondence information will be maintained within the proposed new system of records for the purpose of tracking the Comptroller of the Currency's or the Chief Counsel's correspondence. The system will contain information about individuals whose correspondence is submitted to the Comptroller of the Currency or the Chief Counsel.

In the notice of proposed rulemaking, which is published separately in the Federal Register, the OCC has proposed to exempt records maintained in the Treasury/Comptroller .100-Enforcement Action Report System; Treasury/Comptroller .120-Bank Fraud Information System, and Treasury/Comptroller .220-Section 914 Tracking System from certain of the Privacy Act's requirements pursuant to 5 U.S.C. 552a(j)(2) and/or (k)(2). Comments relating to this proposed action should be directed to the OCC as provided in the notice of proposed rulemaking to amend 31 CFR part 1.

The new system of records reports, required by the Privacy Act, 5 U.S.C. 552a(r), have been submitted to the Committee on Government Reform and Oversight of the House of Representatives, the Committee on Governmental Affairs of the Senate, and the Office of Management and Budget, pursuant to Appendix 1 to OMB Circular A-130, Federal Agency Responsibilities for Maintaining Records About Individuals, dated February 8, 1996.

The five proposed new systems of records, described above, are published in their entirety below.

Dated: September 10, 2001.
W. Earl Wright, Jr.,
Chief Management and Administrative Programs Officer.

TREASURY/COMPTROLLER .100

System Name:

Enforcement Action Report System—Treasury/Comptroller.

System Location:

Office of the Comptroller of the Currency (OCC), Enforcement and Compliance Division, 250 E Street, SW, Washington, DC 20219-0001.

Categories of Individuals Covered by The System:

Individuals covered by this system are: (1) Current and former directors, officers, employees, shareholders, and independent contractors of financial institutions who have had enforcement actions taken against them by the OCC, the Board of Governors of the Federal Reserve System, the Federal Deposit Insurance Corporation, the Office of Thrift Supervision, or the National Credit Union Administration;

(2) Current and former directors, officers, employees, shareholders, and independent contractors of financial institutions who are the subjects of pending enforcement actions initiated by the OCC; and

(3) Individuals who must obtain the consent of the Federal Deposit Insurance Corporation pursuant to 12 U.S.C. 1829 to become or continue as an institution-affiliated party within the meaning of 12 U.S.C. 1813(u) of a federally-insured depository institution, a direct or indirect owner or controlling person of such an entity, or a direct or indirect participant in the conduct of the affairs of such an entity.

Categories of Records in the System:

Records maintained in this system may contain the names of individuals, their positions or titles with financial institutions, descriptions of offenses and enforcement actions, and descriptions of offenses requiring Federal Deposit Insurance Corporation approval under 12 U.S.C. 1829.

Authority for Maintenance of the System:

12 U.S.C. 1, 27, 481, 1817(j), 1818, 1820, and 1831i.

Purposes:

This system of records is used by the OCC to monitor enforcement actions and to assist it in its regulatory responsibilities, including review of the qualifications and fitness of individuals who are or propose to become responsible for the business operations of OCC-regulated entities.

Routine Uses of Records Maintained in The System Including Categories of Users And The Purposes of Such Uses:

Information maintained in this system may be disclosed to:

(1) An OCC-regulated entity when the information is relevant to the entity's operations;

(2) Third parties to the extent necessary to obtain information that is relevant to an examination or investigation;

(3) The news media in accordance with guidelines contained in 28 CFR 50.2;

(4) Appropriate governmental or self-regulatory organizations when the OCC determines that the records are relevant and necessary to the governmental or self-regulatory organization's regulation or supervision of financial service providers, including the review of the qualifications and fitness of individuals who are or propose to become responsible for the business operations of such providers;

(5) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(6) A congressional office when the information is relevant to an inquiry made at the request of the individual about whom the record is maintained;

(7) A contractor or agent who needs to have access to this system of records to perform an assigned activity; or

(8) Third parties when mandated or authorized by statute.

Policies and Practices for Storing, Retrieving, Accessing, Retaining, and Disposing of Records in the System:

Storage:

Records maintained in this system are stored electronically.

Retrievability:

Records maintained in this system may be retrieved by the name of an individual covered by the system.

Safeguards:

Access to electronic records is restricted to authorized personnel who have been issued non-transferrable access codes and passwords.

Retention and Disposal:

Records are retained in accordance with the OCC's records management policies and National Archives and Records Administration regulations.

System Manager(s) and Address:

Director, Enforcement and Compliance Division, Law Department, Office of the Comptroller of the Currency, 250 E Street, SW, Washington, DC 20219-0001.

Notification Procedure:

An individual wishing to be notified if he or she is named in non-exempt records maintained in this system must submit a written request to the Disclosure Officer, Communications Division, Office of the Comptroller of the Currency, 250 E Street, SW, Washington, DC 20219-0001. See 31 CFR part 1, subpart C, appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record Source Categories:

Non-exempt information maintained in this system is obtained from OCC personnel, OCC-regulated entities, other federal financial regulatory agencies, and criminal law enforcement authorities.

Exemptions Claimed for this System:

Records maintained in this system have been designated as exempt from 5 U.S.C. 552a(c)(3), (d)(1), (2), (3), and (4), (e)(1), (e)(4)(G), (H), and (I), and (f) of the Privacy Act pursuant to 5 U.S.C. 552a(k)(2). See 31 CFR 1.36.

TREASURY/COMPTROLLER .120

System Name:

Bank Fraud Information System—Treasury/Comptroller.

System Location:

Office of the Comptroller of the Currency (OCC), Bank Supervision Operations, 250 E Street, SW, Washington, DC 20219-0001.

Categories of Individuals Covered by The System:

Individuals covered by this system are those who submit complaints or inquiries about fraudulent or suspicious financial instruments or transactions or who are the subjects of complaints or inquiries.

Categories of Records in the System:

Records maintained in this system may contain: the name, address, or telephone number of the individual who submitted a complaint or inquiry; the name, address, or telephone number of the individual or entity who is the subject of a complaint or inquiry; the types of activity involved; the date of a complaint or inquiry; and numeric codes identifying a complaint or inquiry's nature or source. Supporting records may contain correspondence between the OCC and the individual or entity submitting a complaint or inquiry, correspondence between the OCC and an OCC-regulated entity, or correspondence between the OCC and other law enforcement or regulatory bodies. Other records maintained in this system may contain arrest, indictment and conviction information, and information relating to administrative actions taken or initiated in connection with complaints or inquiries.

Authority for Maintenance of the System:

12 U.S.C. 1, 27, 481, 1817(j), 1818, 1820, and 1831i; 31 U.S.C. 5318.

Purposes:

This system of records tracks complaints or inquiries concerning fraudulent or suspicious financial instruments and transactions. These records assist the OCC in its efforts to protect banks and their customers from fraudulent or suspicious banking activities.

Routine Uses of Records Maintained in The System, Including Categories of Users And The Purposes of Such Uses:

Information maintained in this system may be disclosed to.

(1) An OCC-regulate entity to the extent that such entity is the subject of a complaint, inquiry, or fraudulent activity;

(2) Third parties to the extent necessary to obtain information that is relevant to the resolution of a complaint or inquiry, an examination, or an investigation;

(3) Appropriate governmental or self-regulatory organizations when the OCC determines that the records are relevant and necessary to the governmental or self-regulatory organization's regulation or supervision of financial service providers;

(4) An appropriate governmental, international, tribal, self-regulatory, or professional organization if the information is relevant to a known or suspected violation of a law or licensing standard within that organization's jurisdiction;

(5) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(6) A congressional office when the information is relevant to an inquiry made at the request of the individual about whom the record is maintained;

(7) A contractor or agent who needs to have access to this system of records to perform an assigned activity; or

(8) Third parties when mandated or authorized by statute.

Policies and Practices for Storing, Retrieving, Accessing, Retaining, and Disposing of Records in the System:

Storage:

Records maintained in this system are stored electronically, in card files, and in file folders.

Retrievability:

Records maintained in this system may be retrieved by the name of an individual covered by the system.

Safeguards:

Access to electronic records is restricted to authorized personnel who have been issued non-transferrable access codes and passwords. Other records are maintained in locked file cabinets or rooms.

Retention and Disposal:

Records are retained in accordance with the OCC's records management policies and National Archives and Records Administration regulations.

System Manager(s) and Address:

Director, Special Supervision/Fraud, Bank Supervision Operations, Office of the Comptroller of the Currency, 250 E Street, SW, Washington, DC 20219-0001.

Notification Procedure:

An individual wishing to be notified if he or she is named in non-exempt records maintained in this system must submit a written request to the Disclosure Officer, Communications Division, Office of the Comptroller of the Currency, 250 E Street, SW, Washington, DC 20219-0001. See 31 CFR part 1, subpart C, appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures

See “Notification Procedure” above.

Record Source Categories:

Non-exempt information maintained in this system is obtained from individuals and entities who submit complaints or inquiries, OCC personnel, OCC-regulated entities, criminal law enforcement authorities, and governmental or self-regulatory bodies.

Exemptions Claimed for the System:

Records maintained in this system have been designated as exempt from 5 U.S.C. 552a(c)(3) and (4), (d)(1), (2), (3), and (4), (e)(1), (e)(2), (e)(3), (e)(4)(G), (H), and (I), (e)(5), (e)(8), (f), and (g) of the Privacy Act pursuant to 5 U.S.C. 552a(j)(2) and (k)(2). See 31 CFR 1.36.

TREASURY/COMPTROLLER .220

System Name:

Section 914 Tracking System—Treasury/Comptroller.

System Location:

Office of the Comptroller of the Currency (OCC), Special Supervision, 250 E Street, SW, Washington, DC 20219-0001.

Categories of Individuals Covered by The System:

Individuals covered by this system are those who are named in notices filed under 12 CFR 5.51 as proposed directors or senior executive officers of national banks, District of Columbia banks operating under the OCC's regulatory authority, or federal branches of foreign banks (OCC-regulated entities). OCC-regulated entities file notices if they:

(1) Have a composite rating of 4 or 5 under the Uniform Financial Institutions Rating System;

(2) Are subject to cease and desist orders, consent orders, or formal written agreements;

(3) Have been determined by the OCC to be in “troubled condition;”

(4) Are not in compliance with minimum capital requirements prescribed under 12 CFR Part 3; or

(5) Have been advised by the OCC, in connection with its review of an entity's capital restoration plan, that such filings are appropriate.

Categories of Records in the System:

Records maintained in this electronic database may contain: the names, charter numbers, and locations of the OCC-regulated entities that have submitted notices pursuant to 5 CFR 5.51; the names, addresses, dates of birth, and social security numbers of individuals proposed as either directors or senior executive officers; and the actions taken by the OCC in connection with these notices.

Authority for Maintenance of the System:

12 U.S.C. 1, 27, 93a, 481, 1817(j), 1818, 1820, and 1831i.

Purpose(s):

Information maintained in this system is used by the OCC to carry out its statutory and other regulatory responsibilities, including other reviews of the qualifications and fitness of individuals who propose to become responsible for the business operations of OCC-regulated entities.

Routine Uses of Records Maintained in The System, Including Categories of Users And The Purposes of Such Uses:

Information maintained in this system may be disclosed to:

(1) An OCC-regulated entity in connection with review and action on a notice filed by that entity pursuant to 12 CFR 5.51;

(2) Third parties to the extent necessary to obtain information that is pertinent to the OCC's review and action on a notice received under 12 CFR 5.51;

(3) Appropriate governmental or self-regulatory organizations when the OCC determines that the records are relevant and necessary to the governmental or self-regulatory organization's regulation or supervision of financial service providers, including the review of the qualifications and fitness of individuals who are or propose to become responsible for the business operations of such providers;

(4) An appropriate governmental, tribal, self-regulatory, or professional organization if the information is relevant to a known or suspected violation of a law or licensing standard within that organization's jurisdiction;

(5) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(6) A congressional office when the information is relevant to an inquiry made at the request of the individual about whom the record is maintained;

(7) A contractor or agent who needs to have access to this system of records to perform an assigned activity; or

(8) Third parties when mandated or authorized by statute.

Policies and Practices for Storing, Retrieving, Accessing, Retaining, and Disposing of Records in the System:

Storage:

Records maintained in this system are stored electronically.

Retrievability:

Records maintained in this system may be retrieved by the name of an individual covered by the system.

Safeguards:

Access to electronic records is restricted to authorized personnel who have been issued non-transferrable access codes and passwords.

Retention and Disposal:

Records are retained in accordance with the OCC's records management policies and National Archives and Records Administration regulations.

System Manager and Address:

Director, Special Supervision/Fraud, Office of the Comptroller of the Currency, 250 E Street, SW, Washington, DC 20219-0001.

Notification Procedure:

An individual wishing to be notified if he or she is named in non-exempt records maintained in this system must submit a written request to the Disclosure Officer, Communications Division, Office of the Comptroller of the Currency, 250 E Street, SW, Washington, DC 20219-0001. See 31 CFR part 1, subpart C, appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record Source Categories:

Information maintained in this system is obtained from OCC-regulated entities, individuals named in notices filed pursuant to 5 CFR 5.51, federal or state financial regulatory agencies, criminal law enforcement authorities, credit bureaus, and OCC personnel.

Exemptions Claimed for the System:

Records maintained in this system have been designated as exempt from 5 U.S.C. 552a(c)(3), (d)(1), (2), (3), and (4), (e)(1), (e)(4)(G), (H), and (I), and (f) of the Privacy Act pursuant to 5 U.S.C. 552a(k)(2). See 31 CFR 1.36.

TREASURY/COMPTROLLER .340

System Name:

Access Control System—Treasury/Comptroller.

System Location:

Office of the Comptroller of the Currency (OCC), Security Office, Administrative Services Division, 250 E Street, SW, Washington, DC 20219-0001.

Categories of Individuals Covered by The System:

Individuals covered by this system are OCC employees, contractors, agents, and volunteers who have been issued an OCC identification card.

Categories of Records in the System:

Records maintained in this system may contain an individual's name, social security number, picture, and authorizations to use the OCC's fitness facility or its headquarters parking garage, if applicable. This system of records also may contain time records of entrances and exits and attempted entrances and exits of OCC premises.

Authority for Maintenance of the System:

12 U.S.C. 1, 481, and 482; 5 U.S.C. 301.

Purposes:

The OCC has an electronic security system linked to identification cards which limits access to its premises to authorized individuals and records the time that individuals are on the premises. This system of records is used to assist the OCC in maintaining the security of its premises and to permit the OCC to identify individuals on its premises at particular times.

Routine Uses of Records Maintained in The System, Including Categories of Users And The Purposes of Such Uses:

Information maintained in this system may be disclosed to:

(1) Third parties to the extent necessary to obtain information that is relevant to an investigation concerning access to or the security of the OCC's premises;

(2) An appropriate governmental authority if the information is relevant to a known or suspected violation of a law within that organization's jurisdiction;

(3) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(4) A congressional office when the information is relevant to an inquiry made at the request of the individual about whom the record is maintained;

(5) A contractor or agent who needs to have access to this system of records to perform an assigned activity; or

(6) Third parties when mandated or authorized by statute.

Policies and Practices for Storing, Retrieving, Accessing, Retaining, and Disposing of Records in the System:

Storage:

Records maintained in this system are stored electronically and in file folders.

Retrievability:

Records maintained in this system may be retrieved by the name of an individual covered by the system.

Safeguards:

Access to electronic records is restricted to authorized personnel who have been issued non-transferrable access codes and passwords. Other records are maintained in locked file cabinets or rooms.

Retention and Disposal:

Records are retained in accordance with the OCC's records management policies and National Archives and Records Administration regulations.

System Managers and Address:

Security Officer, Office of the Comptroller of the Currency, 250 E Street, SW, Washington, DC 20219-0001.

Notification Procedure:

An individual wishing to be notified if he or she is named in non-exempt records maintained in this system must submit a written request to the Disclosure Officer, Communications Division, Office of the Comptroller of the Currency, 250 E Street, SW, Washington, DC 20219-0001. See 31 CFR part 1, subpart C, appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures

See “Notification Procedure” above.

Record Source Categories:

Information maintained in this system is obtained from individuals and the OCC's official personnel records. Information concerning entry and exit of OCC premises is obtained from identification card scanners.

Exemptions Claimed for the System:

None.

TREASURY/COMPTROLLER .700

System Name:

Correspondence Tracking System—Treasury/Comptroller.

System Location:

Office of the Comptroller of the Currency (OCC), Office of Chief Counsel, 250 E Street, SW, Washington, DC 20219-0001. Components of this record system are maintained in the Comptroller of the Currency's Office and the Chief Counsel's Office.

Categories of Individuals Covered by the System:

Individuals covered by this system are those whose correspondence is submitted to the Comptroller of the Currency or the Chief Counsel.

Categories of Records in the System:

Records maintained in this system may contain the names of individuals who correspond with the OCC, information concerning the subject matter of the correspondence, correspondence disposition information, correspondence tracking dates, and internal office assignment information. Supporting records may contain correspondence between the OCC and the individual.

Authority for Maintenance of the System:

12 U.S.C. 1; 5 U.S.C. 301.

Purposes:

This system of records is used by the OCC to track the Comptroller of the Currency's or the Chief Counsel's correspondence, including the progress and disposition of the OCC's response.

Routine Uses of Records Maintained in The System, Including Categories of Users And The Purposes of Such Uses:

Information maintained in this system may be disclosed to:

(1) The OCC-regulated entity involved in correspondence;

(2) Third parties to the extent necessary to obtain information that is relevant to the response;

(3) Appropriate governmental or self-regulatory organizations when the OCC determines that the records are relevant and necessary to the governmental or self-regulatory organization's regulation or supervision of financial service providers;

(4) An appropriate governmental, tribal, self-regulatory, or professional organization if the information is relevant to a known or suspected violation of a law or licensing standard within that organization's jurisdiction;

(5) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(6) A congressional office when the information is relevant to an inquiry made at the request of the individual about whom the record is maintained;

(7) A contractor or agent who needs to have access to this system of records to perform an assigned activity; or

(8) Third parties when mandated or authorized by statute.

Policies and Practices for Storing, Retrieving, Accessing, Retaining, and Disposing of Records in the System:

Storage:

Records maintained in this system are stored electronically and in file folders.

Retrievability:

Records maintained in this system may be retrieved by the name of an individual covered by the system.

Safeguards:

Access to electronic records is restricted to authorized personnel who have been issued non-transferable access codes and passwords. Other records are maintained in locked file cabinets or rooms.

Retention and Disposal:

Electronic and other records are retained in accordance with the OCC's records management policies and National Archives and Records Administration regulations.

System Manager(s) and Addresses:

Deputy to the Chief of Staff, Office of the Comptroller of the Currency, 250 E Street, SW, Washington, DC 20219-0001.

Special Assistant to the Chief Counsel, Office of the Comptroller of the Currency, 250 E Street, SW, Washington, DC 20219-0001.

Notification Procedure:

An individual wishing to be notified if he or she is named in non-exempt records maintained in this system must submit a written request to the Disclosure Officer, Communications Division, Office of the Comptroller of the Currency, 250 E Street, SW, Washington, DC 20219-0001. See 31 CFR part 1, subpart C, appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature (such as credit cards).

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures

See “Notification Procedure” above.

Record Source Categories:

Information maintained in this system is obtained from individuals who submit correspondence and OCC personnel.

Exemptions Claimed for the System:

None.

[FR Doc. 01-27001 Filed 10-25-01; 8:45 am]

BILLING CODE 4810-33-P